NUCLEAR REGULATORY COMMISSION

[Docket No. 50-293; NRC-2012-0130]

Entergy Nuclear Operations, Inc., Pilgrim Nuclear Power Station; Record of Decision and Issuance of Renewed Facility Operating License No. DPR-35 for an Additional 20-Year Period

AGENCY: Nuclear Regulatory Commission.

ACTION: License renewal application; issuance.

SUMMARY: The U.S. Nuclear Regulatory Commission (NRC or the Commission) has issued renewed facility operating license No. DPR-35 to Entergy Operations Inc. (the licensee), the operator of the Pilgrim Nuclear Power Station (PNPS). Renewed facility operating license No. DPR-35 authorizes operation of PNPS by the licensee at reactor core power levels not in excess of 2,028 megawatts thermal in accordance with the provisions of the PNPS renewed license and its technical specifications. This also serves as the record of decision for the renewal of facility operating license No. DPR-35, consistent with the NRC's regulations.

ADDRESSES: Please refer to Docket ID NRC-2012-0130 when contacting the NRC about the availability of information regarding this document. You may access information related to this document, which the NRC possesses and are publicly available, using the following methods:

• Federal Rulemaking Web site: Go to http://www.regulations.gov and search for Docket ID NRC-2012-0130. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

SUPPLEMENTARY INFORMATION:

Discussion

Notice is hereby given that the NRC has issued renewed facility operating license No. DPR-35 to Entergy Operations Inc., the operator of the PNPS. Renewed facility operating license No. DPR-35 authorizes operation of PNPS by the licensee at reactor core power levels not in excess of 2,028 megawatts thermal in accordance with the provisions of the PNPS renewed license and its technical specifications.

The notice also serves as the record of decision for the renewal of facility operating license No. DPR-35, consistent with Title 10 of the Code of Federal Regulations (10 CFR) 51.103. As discussed in the final supplemental environmental impact statement (FSEIS) for PNPS, Supplement 47 to NUREG-1437, “Generic Environmental Impact Statement for License Renewal of Nuclear Plants Regarding Pilgrim Nuclear Power Station,” dated July 2007 (ADAMS Accession Nos. ML071990020 and ML071990027), the Commission has considered a range of reasonable alternatives that included fossil fuel generation, renewable energy sources, demand-side measures such as energy conservation, and the no-action alternative. The factors considered in the record of decision can be found in the FSEIS for PNPS.

PNPS is a boiling water reactor located 4 miles southeast of Plymouth, Massachusetts. The application for the renewed license, “Pilgrim Nuclear Power Station License Renewal Application,” dated January 25, 2006 (ADAMS Accession No. ML060300028), complied with the standards and requirements of the Atomic Energy Act of 1954, as amended (the Act), and the Commission's regulations. As required by the Act and the Commission's regulations in 10 CFR Chapter 1, the Commission has made appropriate findings, which are set forth in the license. Prior public notice of the action involving the proposed issuance of the renewed license and of an opportunity for a hearing regarding the proposed issuance of the renewed license was published in the Federal Register on March 27, 2006 (71 FR 15222).

For further details with respect to this action, see: (1) Entergy Nuclear Operation, Inc., license renewal application for Pilgrim Nuclear Power Station dated January 25, 2006, as supplemented by letters dated through April 24, 2012; (2) the Commission's safety evaluation report (NUREG-1891), published in November 2007, as supplemented (ADAMS Accession Nos. ML073241016, ML072210478, and ML11147A036); (3) the licensee's Final Safety Analysis Report; and (4) the Commission's FSEIS (NUREG-1437, Supplement 29), for the Pilgrim Nuclear Power Station, published in July 2007.

Dated at Rockville, Maryland, this 29th day of May, 2012.
For the Nuclear Regulatory Commission.
Dennis Morey,
Chief, Projects Branch 1, Division of License Renewal, Office of Nuclear Reactor Regulation.

[FR Doc. 2012-14262 Filed 6-11-12; 8:45 am]

BILLING CODE 7590-01-P